DEPARTMENT OF HEALTH AND HUMAN SERVICES

Centers for Disease Control and Prevention

Capacity Building Assistance To Improve the Delivery and Effectiveness of Human Immunodeficiency Virus (HIV) Prevention Services for Racial/Ethnic Minority Populations

Announcement Type: New.

Funding Opportunity Number: PA 04019.

Catalog of Federal Domestic Assistance Number: 93.943.

Key Dates

Letter of Intent Deadline: December 22, 2003.

Application Deadline: January 26, 2004.

I. Funding Opportunity Description

Authority: This program is authorized under Sections 301(a) and 317(k)(2) of the Public Health Service Act, 42 U.S.C. Section 241 and 42 U.S.C. Section 247b(k)(2).

Purpose: The purpose of this announcement is to provide financial assistance to national and regional non-governmental organizations to provide capacity building assistance (CBA) to community-based organizations (CBOs) and health departments (HDs) providing HIV prevention services, and to HIV prevention community planning groups (CPGs). These entities are referred to as the “CBA consumers” throughout the remainder of this document. This funding will enable the CBA consumers to implement, improve, evaluate, and sustain the delivery of effective human immunodeficiency virus (HIV) prevention services for high-risk racial/ethnic minority populations of unknown or negative serostatus, including pregnant women, and people of color who are living with HIV/AIDS and their partners.

The term “capacity building assistance” or “CBA” means the provision of information, technical assistance, training, and technology transfer for individuals and organizations to improve the delivery and effectiveness of HIV prevention services. CBA does not include the delivery of direct HIV prevention services and interventions. This program addresses the “Healthy People 2010” focus area of HIV infection, CDC's Government Performance and Results Act Performance Plan, the goals of CDC's HIV Prevention Strategic Plan through 2005 at http://www.cdc.gov/hiv/partners/psp.htm and Advancing HIV Prevention: New Strategies for a Changing Epidemic at http://www.cdc.gov/mmwr/PDF/wk/mm5215.pdf.

Measurable outcomes of the program will be in alignment with one (or more) of the following performance goal(s) for the National Center for HIV, STD and TB Prevention:

1. Strengthen the capacity to develop and implement effective HIV prevention interventions.

2. Increase the proportion of HIV infected individuals who know they are infected.

3. Increase the proportion of HIV-infected people who are linked to appropriate prevention, care, and treatment services.

4. Decrease the number of persons at high risk for acquiring or transmitting HIV infection.

CBA developed under this program will be provided in four focus areas and applicants may apply for up to two of these as follows:

• Focus Area 1—Strengthening Organizational Infrastructure for HIV Prevention

• Focus Area 2—Strengthening Interventions for HIV Prevention

• Focus Area 3—Strengthening Community Access to and Utilization of HIV Prevention Services

• Focus Area 4—Strengthening Community Planning for HIV Prevention

This program announcement will emphasize regionally structured strategies within the following regions:

• North Region: CT, ME, MA, NH, NJ, NY, PR, RI, U.S. Virgin Islands, VT

• South Region: AL, AZ, FL, GA, KY, LA, MS, NM, NC, OK, SC, TN, TX

• Mid-East Region: DE, DC, IL, IN, MD, MI, MN, OH, PA, VA, WV, WI

• Mid-West Region: CO, IA, KS, MO, MT, NE, ND, SD, UT, WY

• West Region: AK, AZ, CA, HI, ID, NV, OR, WA, Guam, Pacific Basin: American Samoa, Northern Mariana Islands, Marshall Islands, Micronesia, Palau

Applicants for Focus Areas 1, 3, or 4 will be required to work nationally but implementing regional strategies. Refer to the section on Awardee Activities for additional requirements. Applicants for Focus Area 2 will be required to work within one of the five regions. Refer to the Application section of this announcement for additional information on how this applies to the four major racial ethnic groups (as listed under “Other Eligibility Requirements.”)

Program Goals

The goals for this program are as follows:

1. Focus Area 1—Strengthening Organizational Infrastructure for HIV Prevention

Improve the capacity of CBOs to strengthen and sustain organizational infrastructures that support the delivery of effective HIV prevention services and interventions for high-risk racial/ethnic minority individuals.

2. Focus Area 2—Strengthening Interventions for HIV Prevention

Improve the capacity of CBOs and HDs to implement, improve, and evaluate HIV prevention interventions for high-risk racial/ethnic minority individuals of unknown serostatus, including pregnant women, and people of color who are living with HIV/AIDS and their partners.

3. Focus Area 3—Strengthening Community Access to and Utilization of HIV Prevention Services

Improve the capacity of CBOs and other community stakeholders to implement strategies that will increase access to and utilization of HIV prevention and risk-reduction and avoidance services (including those under the Advancing HIV Prevention initiative) for racial/ethnic minority individuals.

4. Focus Area 4—Strengthening Community Planning for HIV Prevention

Improve the capacity of CPGs and HDs to include HIV-infected and affected racial/ethnic minority participants in the community planning process, and increase parity, inclusion, and representation (PIR) on CPGs (for more information, see the HIV Prevention Community Planning Guidance at http://www.cdc.gov/hiv/pubs/hiv-cp.htm).

Performance Indicators

To ensure quality programs and to measure progress, applicants are required to report on core performance indicators and performance indicators by focus area.

Core Performance Indicators:

The core performance indicators apply to all focus areas and are as follows:

1. proportion of all CDC-funded CBOs receiving capacity building assistance through training;

2. proportion of CDC-funded health departments receiving CBA related to HIV prevention for racial/ethnic minority populations;

3. proportion of CBOs that report agreement with timeliness in completion of CBA;

4. proportion of health departments that report agreement with timeliness in completion of CBA;

5. of the total number of action plans, the proportion of action plans completed according to the scheduled timeliness;

6. proportion of CBOs that report agreement that CBA received met their needs; and

7. proportion of health departments that report agreement that CBA received met their needs.

Performance Indicators by Focus Area:

Performance indicators by focus are as follows:

Focus Area 1—Proportion of CDC-funded CBOs, by racial/ethnic minority population served, receiving assessment of organizational needs;

• Focus Area 2—Proportion of CDC-funded CBOs, by racial/ethnic minority population served, receiving assessments of intervention needs;

• Focus Area 3—Proportion of CBA programmatic events promoting HIV antibody testing; and

• Focus Area 4—Proportion of Community Planning Groups (CPGs) receiving CBA on Parity, Inclusion, and Representation.

• Additional performance indicators may be added or refined over the course of the project period. (For additional information on performance indicators, see Application and Submission Information.)

Applicants will be responsible for the following in response to the performance indicators:

a. Set baseline, one-year, and five-year target goals (target goals will be negotiated with CDC post-award).

b. Use performance indicators for the design of a monitoring evaluation plan.

c. Collect process and outcome monitoring data and report to the CDC.

Applicants are accountable for achieving performance target goals. If an applicant fails to achieve their target, CDC will work with the applicant to determine what steps can be taken to improve performance. CDC involvement may include technical assistance, conditional or restrictive funding. If your performance fails to improve, CDC may reduce the award or defund your program.

Activities

Awardee activities for this program are as follows:

General Awardee Activities for all Applicants

All applicants are required to implement general awardee activities by developing process objectives and activities for the following:

1. Use logic modeling for internal program planning and conducting CBA. A program logic model links outcomes (both short- and long-term) with program activities/processes and the theoretical assumptions/principles of the program.

2. Include input from target consumers and other potential consumers of the proposed services, including people living with HIV/AIDS.

3. Incorporate cultural competency and linguistic and educational appropriateness into all CBA activities.

4. Collaborate with CDC, CDC-funded CBA and Technical Assistance (TA) providers, and contractors to plan and deliver CBA that is (1) consistent with CDC expectations (as provided in trainings for grantees); and (2) to avoid duplication of services.

5. Undertake a coordinated systems approach in the delivery of regionally structured CBA services that includes (a) notifying, cooperating and coordinating with state and local health departments in the delivery of CBA services within their health jurisdictions; (b) collaborating with other sources of CBA (including CBA providers in other focus areas) in the regions to plan and implement comprehensive CBA; (c) conducting assessments of needs, community resources, and social capital; (d) identifying and addressing gaps in CBA services; and (e) leveraging other federal, state or local resources.

6. Implement a plan for developing and maintaining ongoing relationships with target consumers and CPGs for which the awardee has responsibility. The plan should include strategies for conducting ongoing assets assessments and needs assessments and developing tailored CBA packages to be delivered throughout the duration of the project period.

7. Develop protocols that respond to new CBA requests following procedures to be provided by CDC.

8. Refer all CBA requests, which fall outside of your focus area(s) to the CDC capacity building assistance coordinator for appropriate assignment.

9. Participate in a CDC-coordinated CBA network to enhance communication, coordination, cooperation, and training.

10. Identify the CBA training needs of your own program and staff. Develop and implement a plan to address these needs.

11. Implement a quality assurance strategy that ensures the delivery of high quality services.

12. Implement an evaluation monitoring plan that addresses the performance indicators. The plan should outline the process and outcome data to be collected, identify sources of information, methods by which information will be collected, process for analyzing and interpreting information, and using findings for program improvement.

13. Develop and implement an effective strategy for marketing your CBA services.

14. Report planned group CBA events to the Capacity Building Branch (CBB) Training Calendar for dissemination to HIV prevention partners and constituents to be provided by CDC.

15. Facilitate the dissemination of information about successful CBA strategies and “lessons learned” through replication packages, peer-to-peer interactions, meetings, workshops, conferences, case studies, and communications with CDC project officers.

Note: Successful or funded applicants will be expected to attend several post-award training events during April, May, and June 2004.

Focus Area-Specific Awardee Activities

Focus Area 1: Strengthening Organizational Infrastructure for HIV Prevention

a. Develop tools and protocols for assessing organizational infrastructure system needs, resources, readiness, and gaps.

b. Provide or ensure the provision of CBA in organizational infrastructure. Examples include, but are not limited to: organizational assessments to determine the needs, resources, readiness, and gaps of organizational infrastructure systems (e.g., governance, management, administration, personnel, and fiscal); proposal development and grant writing; personnel policy development; program policy development, including confidentiality standards, and reporting rules and regulations; development of Memorandums of Agreement; resource development, including development of reimbursement mechanisms, identification of other funding sources and development of public/private partnership strategies; board development and training; biohazard management and disposable protocols; licensing and certification issues for HIV rapid testing; management information systems (MIS) data management; strategic planning; leadership development; team building; public relations; development of 501(c)3 of the Internal Revenue Code; human resources management, including staff and volunteer recruitment, management, retention, and training; organizational quality assurance and monitoring; program marketing and public relations; personnel policy development; and cross-cultural communications.

c. Create, coordinate, and utilize regional resource consultant pools that include subject matter experts to provide CBA. To achieve cost effectiveness, the preference is for brokering CBA requests to locally based and culturally competent consultants and experts. Regional resource consultant pools should be created in each region for which the awardee has responsibility.

d. Coordinate and support the developmental needs of the regional resource consultant pools by developing training materials, diffusing best program practices and interventions for HIV negative and positive persons, and conducting orientation and training for consultants to help them deliver effective and efficient services.

Focus Area 2: Strengthening Interventions for HIV Prevention

a. Provide ongoing CBA for CBOs in the adaptation, implementation, quality assurance, and evaluation of effective HIV prevention interventions for high-risk seronegatives and HIV-positive racial/ethnic minority individuals. Examples of prevention interventions are: health education and risk reduction and avoidance; outreach capacity and preparation for testing; testing; referrals; prevention and partner counseling; prevention case management; interventions to prevent perinatal transmission; and rapid testing in non-traditional settings such as jails, and high-risk community venues. CBA provided must be consistent with CDC's Advancing HIV Prevention Initiative, the Compendium of Effective Behavioral Interventions (including Replicating Effective Programs and the Diffusion of Effective Behavioral Interventions), and other CDC approved procedures and protocols. (For information on the Compendium of Effective Behavioral Interventions visit: http://www.cdc.gov/hiv/pubs/hivcompendium/HIVcompendium.htm. Provide CBA to HDs on culturally appropriate HIV prevention interventions and strategies for racial/ethnic minority populations. Assistance may include needs assessments and adapting or adopting interventions. This may take the form of health departments requesting assistance on behalf of their CBOs.

b. Provide CBA on the diffusion of effective behavioral interventions, including training, cultural adaptation of curricula, and promotion of “boxed” interventions from CDC.

c. Create, coordinate, and utilize regional resource consultant pools that include subject matter experts (including social and behavioral scientists) to provide CBA. To achieve cost effectiveness, the preference is for brokering CBA to locally based and culturally-competent consultants and experts.

d. Coordinate and support the developmental needs of the regional resource consultant pools by developing training materials, diffusing best program practices and interventions for HIV negative and positive persons, and conducting orientation and training for consultants to help them deliver effective and efficient services.

Note: Prevention interventions, while mainly addressing risk reduction and avoidance for HIV infection, should also include risk reduction and avoidance for co-infections with other sexually transmitted diseases, blood borne diseases (for Hepatitis C) and tuberculosis.

Capacity building assistance on HIV prevention methods (or strategies) can include abstinence, monogamy, i.e., being faithful to a single sexual partner, or using condoms consistently and correctly. These approaches can avoid risk (abstinence) or effectively reduce risk for HIV (monogamy, consistent and correct condom use).

Focus Area 3: Strengthening Community Access and Utilization of HIV Prevention Services

a. Develop a strategy based on a model to improve access and utilization of HIV prevention services for a racial/ethnic minority population at risk for HIV infection or living with HIV. The strategy should be based on models for structural or population-based behavioral changes. Examples of what the strategy may address include, but are not limited to: (1) Coalition development for increased prevention and care service integration, national education and mobilization projects, increased institutional policies in support of HIV prevention, and community building among HIV-positive persons and other high-risk persons to expand HIV prevention and risk-reduction and avoidance services; (2) nationally designed and coordinated projects to be adapted locally that promote innovative community testing and service referral initiatives or that mobilize local communities in support of HIV prevention efforts; (3) or social marketing projects to reduce stigma or to increase the acceptability of HIV prevention services (including testing) and interventions (including risk reduction and avoidance for people living with HIV/AIDS, and perinatal HIV prevention).

Note: Structural factors associated with HIV risk and prevention may be broadly defined to include physical, social, cultural, organizational, community, economic, legal or policy aspects of the environment that impede or facilitate persons' efforts to avoid HIV infection. Structural interventions address one or more of these factors.

b. Develop and implement a plan to provide CBA to CBOs and community stakeholders on your selected model and strategy. The plan should identify the CBA consumers, capacity building outcomes, activities, and skill sets to be imparted.

Note: Models for increasing access and utilization to HIV prevention services should also emphasize access to and utilization of other services related to sexually transmitted diseases, blood borne diseases (for Hepatitis C) and tuberculosis.

Focus Area 4: Strengthening Community Planning for HIV Prevention

a. Through participation in the CDC National Technical Assistance (TA) Providers' Network for HIV Prevention Community Planning, provide CBA to CPGs and health departments to assist them in implementing HIV prevention community planning and improving the parity, inclusion, and representation of racial/ethnic minority populations in the community planning process.

b. Provide CBA to CPGs, HDs, CBOs, and other community stakeholders to increase their knowledge of, and skill and involvement in, community planning. Examples include, but are not limited to, leadership development, understanding the HIV Prevention Community Planning Guidance and the planning process, use of data for decision-making, priority setting, public speaking and persuasion, parliamentary procedures and meeting processes, group and meeting facilitation, and understanding public health delivery systems.

c. Participate in ongoing planning and coordination meetings with the CDC National TA Providers' Network for HIV Prevention Community Planning.

In a cooperative agreement, CDC staff is substantially involved in the program activities, above and beyond routine grant monitoring.

CDC Activities for this program are as follows:

a. Supporting all funded awardees by coordinating a national network of capacity building providers.

b. Providing consultation and technical assistance in designing, planning, developing, operating, and evaluating activities (such as progress reporting, submitting information for the training calendar) based on CDC's standards and expectations. CDC may provide consultation and technical assistance both directly from CDC and indirectly through prevention partners, such as health departments, national and regional minority partners, CBA partners, trainers, contractors, and other national organizations.

c. Monitoring the performance of program and fiscal activities through progress reports, data reporting, site visits, conference calls, and compliance with federally mandated requirements, such as protection of client privacy.

d. Providing up-to-date scientific information and training on the risk factors for transmitting HIV infection among persons living with HIV/AIDS; HIV prevention services for counseling, testing, and referral to care and treatment; partner counseling and proven effective behavioral interventions for people at risk for becoming infected.

e. Assisting in the development of collaborative efforts with state and local health departments, HIV prevention community planning groups, CBOs that receive direct funding from CDC, and other federally supported organizations providing HIV/AIDS services.

f. Facilitating the exchange of information about successful interventions, program models, and “lessons learned” through grantee meetings, workshops, conferences, newsletters, the Internet, and communications with CDC Project Officers. CDC will also facilitate the exchange of program information and technical assistance among community-based organizations, health departments, and national and regional organizations.

g. Conducting an overall evaluation of the program.

II. Award Information

Type of Award: Cooperative Agreement.

CDC involvement in this program is listed in the Activities Section above.

Fiscal Year Funds: 2004.

Approximate Total Funding: $21 million.

Approximate Number of Awards: 33 total.

Focus Area 1: Four (4) Awards

Focus Area 2: Twelve (12) to Fourteen (14) Awards

Focus Area 3: Twelve (12) Awards

Focus Area 4: Four (4) Awards

Approximate Average Award:

Focus Area 1: $1.15M per year

Focus Area 2: $690K per year

Focus Area 3: $365K per year

Focus Area 4: $250K per year

Floor and Ceiling of Award Range:

Focus Area 1: Floor $500K—Ceiling $1.8M

Focus Area 2: Floor $640K—Ceiling $750K

Focus Area 3: Floor $200K—Ceiling $530K

Focus Area 4: Floor $200K—Ceiling $300K

Anticipated Award Date: April 1, 2004.

Budget Period Length: 12 months.

Project Period Length: Five years.

Throughout the project period, CDC's commitment to continuation of awards will be conditioned on the availability of funds, evidence of satisfactory progress by the awardee (as documented in required reports), and the determination that continued funding is in the best interest of the Federal Government.

III. Eligibility Information

Eligible Applicants: Applications may be submitted by public and private nonprofit organizations, such as:

• National or regional organizations

• Universities

• Colleges

• Faith-based organizations

• Federally recognized Indian tribal governments

• Indian tribal organizations

Eligibility is limited to organizations that have experience and expertise providing capacity building assistance services to CBA consumers serving racial/ethnic minority populations. In order to be effective, these organizations must have access to, and credibility with, racial/ethnic minority populations in a manner that is culturally competent and facilitates learning.

Other Eligibility Requirements

CBA developed under this program announcement will be delivered to CBA consumers serving one or more of the four major racial/ethnic populations as follows:

• Black/African-American

• Hispanic/Latino

• Asian/Pacific Islander

• American Indian/Alaska Native

Your organization is eligible to apply if it meets all of the following criteria:

1. Has a currently valid 501(c)3 tax-exempt status as demonstrated by a valid Internal Revenue Service (IRS) determination letter.

2. Has a specific charge from its Articles of Incorporation, Bylaws, or a resolution from its executive board or governing body to operate nationally (i.e., multi-regional) or regionally (i.e., multi-state/territory) within the United States or its Territories.

3. Has a three-year track record of providing CBA, in the focus area for which you intend to apply as demonstrated by agency documentation (including evaluation and annual reports, participant feedback, agency records, etc.).

4. Has a three-year track record of providing CBA to consumers that serve a major racial/ethnic minority population(s) or of providing direct HIV prevention services to a major racial/ethnic minority population as documented by annual agency reports, a board resolution, or other documentation.

5. Is not a governmental or municipal agency, or an affiliate of a governmental or municipal agency (e.g., health department, school board, public hospital).

Notes for Applicants:

1. If applying to provide CBA in Focus Area 2 for CBA consumers that serve Black/African-American or Hispanic/Latino populations, you may only work in one region, and your organization must have a presence (three-year track record of providing CBA or office) in that region.

2. If applying to provide CBA in Focus Area 2 to CBA consumers that serve Asian/Pacific Islander or American Indian/Alaska Native populations, you may work across all regions.

3. Funding estimates and project period may change based on the availability of funds, scope, and quality of the applications received, appropriateness and reasonableness of the budget justifications, and proposed use of project funds.

4. Continuation awards for a new 12-month budget period, within an approved five-year project period, will be made on the basis of availability of funds and the applicant's satisfactory progress toward achieving the stated objectives, and in that the project remains in the best interest of the government. Satisfactory progress toward achieving objectives will be determined by required progress and data reports submitted by the awardee and site visits conducted by CDC representatives.

Cost Sharing or Matching

Matching funds are not required for this program.

Note: Title 2 of the United States Code section 1611 states that an organization described in section 501(c)(4) of the Internal Revenue Code that engages in lobbying activities is not eligible to receive Federal funds constituting an award, grant, or loan.

IV. Application and Submission Information

How to Obtain Application Forms: To apply for this funding opportunity use application form PHS 5161-1. Forms are available on the CDC Web site, at the following Internet address: http://www.cdc.gov/od/pgo/forminfo.htm. If you do not have access to the Internet, or if you have difficulty accessing the forms on-line, you may contact the CDC Procurement and Grants Office Technical Information Management Section (PGO-TIM) staff at: 770-488-2700. Application forms can be mailed to you.

This program announcement is the definitive guide on application format, content, and deadlines. It supersedes information provided in the application instructions. If there are discrepancies between the application form instructions and the program announcement, adhere to the guidance in the program announcement.

To request a CD-ROM or hard copy of the application kit (which includes the request for application, required forms, Supplemental Information, CBA Guidelines, and other information), contact CDC's National Prevention Information Network (NPIN) at 1-800-282-7681; visit its Web site at http://www.cdcnpin.org, or send requests by fax to 1-888-282-7681 (TTY users: 1-1800-243-7012). This announcement and associated forms can also be found on the CDC home page, http://www.cdc.gov. Click on Funding Opportunities then Grants and Cooperative Agreements.

You are required to have a Dun and Bradstreet (DUNS) number to apply for a grant or cooperative agreement from the Federal government. The DUNS number is a nine-digit identification number, which uniquely identifies business entities. Obtaining a DUNS number is easy and there is no charge. To obtain a DUNS number, access http://www.dunandbradstreet.com or call 1-866-705-5711. For more information, see the CDC Web site at: http://www.cdc.gov/od/pgo/funding/pubcommt.htm.

If your application form does not have a DUNS number field, please write your DUNS number at the top of the first page of your application, and/or include your DUNS number in your application cover letter.

Pre-Application Technical Consultation

Technical consultation audio-conference calls for all focus areas will be held on December 16, 2003 at 2 p.m. Eastern Time. A repeat audio-conference call will be held on and December 18, 2003 at 2 p.m. Eastern Time. Participants may call toll-free 888-655-9181. Please have the conference passcode ready: 54485.

Content and Form of Submission

Letter of Intent (LOI): CDC requires that you send a LOI if you intend to apply for this program. Your LOI will be used to gauge the level of interest in this program, and to allow CDC to plan the application review. Eligibility information is not required with the LOI. Your application should not accompany the LOI. Your LOI must be written in the following format:

• Maximum number of pages: One

• Font size: 12-point unreduced

• Paper size: 8.5 × 11 inches

• Page margin size: One-inch

• Printed only on one side of page

• Double-spaced.

• Your LOI must contain the following information:

• Program announcement title and number.

• Applicant's name and address.

• Focus area for which you intend to apply.

• If applying for Focus Area 2, in which region(s) you intend to provide services.

• CBA Consumers you intend to serve.

Application

You must submit a signed original and two copies of your application forms. You must include a project narrative with your application forms. Your narrative must be submitted in the following format:

Format

Your application must be submitted in the following format:

• All material must be typewritten; single-spaced.

• Maximum number of pages: 40 pages (excluding budget, appendices and attachments). If your narrative exceeds the page limit, only the first pages, which are within the page limit, will be reviewed.

• Font size: 12 point unreduced.

• Paper size: 8.5 x 11 inches.

• Page margin size: One-inch.

• Printed only on one side of page.

• Program announcement title and number must appear in the application.

• The original and each copy of the application sent must be submitted unstapled and unbound. Held together only by rubber bands or metal clips; not bound in any other way.

• Number each page, including appendices and attachments, sequentially and provide a complete table of contents to the application and its appendices and attachments.

Please begin each separate section of the application on a new page.

• Headers and footers printed on one side only.

• Applicants may not apply for more than two focus areas.

• Applicants must submit a separate application for each focus area.

• Applicants must submit a signed original and two copies of your application forms.

Proof of Eligibility

Applicants must complete this section on Proof of Eligibility, including providing the following documents as appropriate. Failure to provide the required documentation will result in your application being disqualified and returned to you without further review.

a. Provide documentation that your organization has the specific charge from its executive board or governing body to operate nationally or regionally (i.e., a multi-state/territory) within the United States and its Territories. Documentation should include a copy of the section of your organization's Articles of Incorporation, Bylaws, or Board Resolution.

b. Provide a copy of the current, valid Internal Revenue Service (IRS) determination letter of your organization's 501(c) 3 tax-exempt status.

c. Provide evidence that your organization has a three-year track record providing CBA in the focus area for which you intend to apply.

d. Provide evidence that your organization has a three-year track record providing CBA to consumers that serve the major racial/ethnic minority population(s) identified in your proposal; or providing direct HIV prevention services to a major racial/ethnic minority population identified in your proposal.

Abstract

Please provide a brief two-page summary of your proposed program activities, including the following information:

a. A description of your CBA consumers.

b. A description of the major racial/ethnic minority population that will be the focus for your CBA consumers.

c. The focus area for which you intend to apply.

d. A brief description of your strategy that includes: (1) A description of your CBA; (2) the conditions you are seeking to change; and (3) the outcomes you are seeking to achieve.

e. If applying for Focus Area 2, indicate which region the program will serve and how it will be regionally structured.

Narrative

You must include a project narrative with your application and must include the following items in the order listed below. Your application will be evaluated on the information in these sections. It is important to follow the format provided in laying out your program proposal.

Program Plan

The program plan will include a description of your CBA program and strategy, objectives, activities, and timeline as follows:

CBA Program and Strategy

a. If applying for Focus Area 1, provide a description of your proposed program and the strategy for implementation. Include a description of the administrative, financial, accounting, and human resource models used to build organizational infrastructure capacity of HIV prevention CBOs (e.g., grant writing, fiscal management, board development, staff and volunteer development, and strategic planning).

b. If applying for Focus Area 2, provide a description of your proposed program and the strategy for implementation. Include a description of the HIV prevention interventions you have helped to implement (adapted or adopted) or evaluated. Your strategy must include information on how you intend to build capacity for interventions such as: Health education and risk reduction and avoidance; outreach capacity and preparation for testing; testing; referrals; prevention and partner counseling; prevention case management; and interventions to prevent perinatal transmission.

c. If applying for Focus Area 3, provide a description of your model. Also include information on: (1) Data demonstrating evidence that your model will be successful; (2) how this model is appropriate for the selected community; (3) conditions you expect to influence; (4) outcomes you expect to achieve; (5) a strategy for implementation; and (6) description of training materials including curricula.

d. If applying for Focus Area 4, provide a description of your proposed program and the strategy for implementation. Include a description of how CPG needs will be addressed including, but not limited to, orientation to the community planning process; process management; parity, inclusion and representation; using data to support decision making; needs assessments; priority setting; intervention effectiveness; and evaluation of the planning process.

Objectives

What are your objectives to address the general and focus area-specific awardee activities in the focus area for which you intend to apply?

Note: Some of these objectives should address the development of protocols for these activities—i.e., a protocol for undertaking a coordinated systems approach to delivering regionally structured CBA services.

Activities

Describe your proposed activities. These activities must relate to each of the objectives listed above.

Timeline

Provide a timeline and list staff responsible for implementing activities in the first year.

Program Experience

a. Describe your organization's program experience as it relates to the focus area for which you intend to apply.

b. Address the methods that you have used to provide CBA services and to whom.

c. Address your organization's program experience collaborating with other CBA providers and state and local health departments.

d. Address your organization's program experience in providing CBA that responds effectively to the cultural, gender, environmental, social, and linguistic characteristics of your CBA consumers. In answering this question, describe the types of services provided and list any culturally-, linguistically-, and developmentally appropriate curricula and materials that your organization has adapted or developed.

Organizational Capacity

a. Submit your organizational chart and indicate where the proposed program will be located.

b. Describe your fiscal management systems and how it functions.

c. Describe your human resource management system and how it functions.

d. Describe your Management Information System (MIS), its functional role and software assets.

e. Provide the number, and describe the organizational expertise, of your full-time employees (FTEs).

f. Summarize how the systems and assets described above will be used to support and manage the proposed program.

Evaluation Monitoring Plan

a. Provide baseline, one-year interim and five-year overall target performance goals based on the core performance indicators and performance indicators by focus area.

b. Describe the process and outcome data you will collect.

Note: Data collected must relate to your objectives and the performance indicators.

c. Describe your methods for collecting, analyzing, interpreting and reporting process and outcome data.

d. Describe your plans for using process and outcome data to improve your program.

Budget and Staffing Breakdown and Justification:

a. Provide a detailed budget for each proposed activity. Justify all operating expenses in relation to the planned activities and stated objectives. CDC may not approve or fund all proposed activities. Be precise about the program purpose of each budget item and itemize calculations wherever appropriate.

b. For each contract and consultant contained within the application budget, describe the type(s) of organizations or parties to be selected and the method of selection; identify the specific contractor(s), if known; describe the services to be performed, and justify the use of a third party to perform these services; provide a breakdown of and justification for the estimated costs of the contracts and consultants; specify the period of performance; and describe the methods to be used for contract monitoring.

c. Provide a job description for each position, specifying job title, function, general duties, and activities. Also provide salary range or rate of pay and the level of effort and percentage of time to be spent on activities that would be funded through this cooperative agreement. If the identity of any key personnel who will fill a position is known, his/her name and resume should be attached. Experience and training related to the proposed project should be noted. If the identity of staff is not known, describe your recruitment plan. If volunteers are involved in the project, provide job descriptions.

Note: If indirect costs are requested, you must provide a copy of your organization's current negotiated Federal indirect cost rate agreement.

Funding Restrictions

Funding restrictions, which must be taken into account while writing your budget, are as follows:

a. Funds available under this announcement must support CBA that improves the capacity of the CBA consumers to implement, improve, and sustain programs that support the delivery of effective HIV prevention services for high-risk racial/ethnic minority populations.

b. Funds available under this announcement (for Focus Areas 1 and 2) must support CBA that gives priority to CBOs directly-funded by CDC, followed by CBOs funded by state and local health departments.

c. These federal funds may not supplant or duplicate existing funding.

d. No funds will be provided for direct provision of health education and risk reduction and avoidance (HERR) services or patient care, including substance abuse treatment, medical treatment, or medications.

e. These Federal funds may not be used to support the cost of developing applications for other federal funds.

f. Before using funds awarded through this cooperative agreement to develop HIV prevention materials, awardees must check with the CDC National Prevention Information Network (NPIN) to determine if suitable materials are already available. Also, materials developed by awardees must be made available for dissemination through the CDC NPIN. For further information on NPIN services and resources, contact NPIN at 1-800-458-5231; visit its Web site at http://www.cdcnpin.org; or send requests by fax to 1-888-282-7681 (TTY users: 1-800-243-7012).

If you are requesting indirect costs in your budget, you must include a copy of your indirect cost rate agreement. If your indirect cost rate is a provisional rate, the agreement must be less than 12 months of age.

Guidance for completing your budget can be found on the CDC Web site, at the following Internet address: http://www.cdc.gov/od/pgo/funding/budgetguide.htm.

Additional information may be included in the application appendices. The appendices will not be counted toward the narrative page limit.

Appendices

In addition to the documents required in the Proof of Eligibility section of your application, the following appendices should be included in your application, if relevant:

a. list of all organizations with which you will cooperate to avoid duplication of effort and ensure that gaps in CBA services are addressed. Include Memoranda of Agreement from each such organization as evidence of cooperative relationships. Memoranda of Agreement should specifically describe the proposed cooperative activities. These documents must be submitted annually with each interim progress report.

b. A list of culturally-, linguistically-, and developmentally-appropriate materials that are available and currently being delivered.

c. A description of funding received from CDC or other sources (federal, state, local, private, etc.) to conduct similar activities that includes:

(1) A summary of current funds and income received to conduct CBA programs. This summary must include the name of the sponsoring organization/source of income, level of funding, a description of how the funds have been used, and the budget period. In addition, identify proposed personnel who will conduct the activities of this project and who are supported by other funding sources (include their roles and responsibilities).

(2) A summary of the objectives and activities of the funded programs that are described above.

(3) An explanation of how funds requested in this application will be used differently or in ways that will expand upon programs that are supported with existing or future funds.

(4) An assurance that the requested funds will not duplicate or supplant funds that have been received from any other Federal or non-Federal source. CDC-awarded funds may be used to expand or enhance services supported by other Federal or non-Federal funding sources.

d. Independent audit statements from a certified public accountant for the previous two years.

e. A copy of the organization's current negotiated Federal indirect cost rate agreement, if applicable.

Note: Materials, which should be part of the basic plan, will not be accepted if placed in the appendices.

Submission Date, Time, and Address

LOI Deadline Date: December 22, 2003.

LOI Submission Address: Submit your LOI by express, delivery service, or e-mail to: Samuel Taveras, Team Leader, Centers for Disease Control and Prevention, National Center for HIV, STD, and TB Prevention, Division of HIV/AIDS Prevention, 1600 Clifton Road, Mailstop E-40, Atlanta, Georgia 30333, Telephone: 404-639-5241, E-mail address: syt2@cdc.gov.

Application Deadline Date: January 26, 2004.

Application Submission Address: Submit your application by mail or express delivery service to: Technical Information management-PA 04019, CDC Procurement and Grants Office, 2920 Brandywine Road, Atlanta, GA 30341. Applications will not be accepted by fax or email.

Explanation of Deadlines: Applications must be received in CDC Procurement and Grants Office by 4 p.m. Eastern Time on the deadline date. If you send your application by the United States Postal Service or commercial delivery service, you must ensure that the carrier will be able to guarantee delivery of the application by the closing date and time. If CDC receives your application after closing due to: (1) carrier error, when the carrier accepted the package with a guarantee for delivery by the closing date and time, or (2) significant weather delays or natural disasters, you will be given the opportunity to submit documentation of the carrier's guarantee. If the documentation verifies a carrier problem, CDC will consider the application as having been received by the deadline.

If you have a question about the receipt of your application, first contact your courier. If you still have a question, contact the Procurement and Grants Office—Technical Information Management (TIMS) staff at: 770-488-2700. Before calling, please wait two to three days after the application deadline. This will allow time for applications to be processed and logged.

CDC will not notify applicants concerning receipt of applications.

Intergovernmental Review of Applications

Your application is subject to Intergovernmental Review of Federal Programs, as governed by Executive Order (EO) 12372. This order sets up a system for state and local governmental review of proposed federal assistance applications. You should contact your state single point of contact (SPOC) as early as possible to alert the SPOC to prospective applications, and to receive instructions on your state's process. Click on the following link to get the current SPOC list: http://www.whitehouse.gov/omb/grants/spoc.html.

V. Application Review Information

Review Criteria: You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation. Therefore, you must set baseline, annual, and five year overall target levels of performance for each core performance indicators and performance indicator by focus area identified in this program announcement. These target levels of performance must be reflected in your objectives, submitted with the application, and will be an element of evaluation.

Each application will be evaluated individually by an independent review group appointed by CDC. Applications will be rated according to the quality of responses to the questions listed in the Content and Form of Submission section of this announcement and the quality of the stated process objectives. The criteria against which the questions will be rated and the number of points allocated to each component of the application are listed below. Your application will be evaluated against the following evaluation criteria:

1. Program Plan

a. Is the program and strategy based on sound reasoning or evidence? (10 points)

b. Are the proposed program objectives specific, measurable, achievable, realistic, and time-phased? (10 points)

c. What is the likelihood that proposed program activities will accomplish the proposed program objectives? (10 points)

d. Is the timeline feasible? (10 points) (40 points)

2. Program Experience

Is the applicant's program experience relevant to the provision of CBA in the focus area for which they intend to apply? (20 Points)

3. Organizational Capacity

Does the applicant demonstrate current organizational capacity to implement the focus area for which they are applying? (20 Points)

4. Evaluation Monitoring Plan

Is the evaluation-monitoring plan feasible and does it address the required target goals, process and outcome data collection, analysis, and reporting activities? (20 Points)

Review and Selection Process: An objective review panel will evaluate your application according to the criteria listed above. In addition, the following factors may affect the funding decision:

1. CDC's commitment to ensure overall funding for CBA services that serves each of the four major racial/ethnic minority populations for all five regions.

2. CDC's commitment to ensure overall funding for CBA services that is distributed in proportion to the HIV/AIDS disease burden among high-risk racial/ethnic minority populations.

3. CDC's commitment to ensure that overall funding for CBA services is distributed proportionally in all regions and according to the number of CBA consumers located in each region.

4. Under Focus Area 3, CDC's commitment to ensure that funding for CBA serves different high-risk sub-groups including, but not limited to, Men who have sex with men (MSM), Injection Drug Users (IDU), women, migrant workers at risk for HIV infection and high-risk youth.

5. Under Focus Area 3, CDC's commitment to ensure that funding for CBA includes strategies involving faith-based organizations.

VI. Award Administration Information

Award Notices: If your application is funded, you will receive a Notice of Grant Award (NGA) from the CDC Procurement and Grants Office. The NGA shall be the only binding, authorizing document between the recipient and CDC. The NGA will be signed by an authorized Grants Management Officer, and mailed to the recipient fiscal officer identified in the application.

Administrative and National Policy Requirements: 45 CFR parts 74 and 92.

The following additional requirements apply to this project:

• AR-1 Human Subjects Requirements

• AR-2 Requirements for Inclusion of Women and Racial and Ethnic Minorities in Research

• AR-4 HIV/AIDS Confidentiality Provisions

• AR-5 HIV Program Review Panel Requirements

• AR-7 Executive Order 12372 Review

• AR-8 Public Health System Reporting Requirements

• AR-9 Paperwork Reduction Act Requirements

• AR-10 Smoke-Free Workplace Requirements

• AR-11 Healthy People 2010

• AR-12 Lobbying Restrictions

• AR-14 Accounting System Requirements

• AR-15 Proof of Non-Profit Status

• AR-16 Security Clearance Requirement

• AR-20 Conference Support

• AR-21 Small, Minority, and Women-Owned Business

• AR-22 Research Integrity

Additional information on these requirements can be found on the CDC Web site at the following Internet address: http://www.cdc.gov/od/pgo/funding/ARs.htm.

Reporting Requirements

You must provide CDC with an original, plus two copies of the following reports:

1. First semi-annual progress report, it can serve as your interim progress report, no less than 120 days before the end of the budget period. The report must contain the following elements:

a. Current Budget Period Activities and Objectives.

b. Current Budget Period Financial Progress.

c. New Budget Period Program Proposed Activity Objectives.

d. Detailed Line-Item Budget and Justification.

e. Additional Requested Information including: (1) Data related to performance target goals; (2) data on progress toward achieving objectives; (3) an inventory of total Individual Capacity Building Assistance and proactive training for the reporting period; and (4) data related to the quality assurance system.

2. Second semi-annual progress report shall be due 30 days after each budget period ends. Specific guidance on what to include in this report will be provided three months before the due date. This report should include the following:

a. Base line and actual level of performance on core performance indicators and performance indicators by focus area.

b. Current Budget Period Financial Progress.

c. Additional requested information.

3. Financial status report, no more than 90 days after the end of the budget period.

4. Final financial and performance reports, no more than 90 days after the end of the project period.

5. Submit any newly developed public information resources and materials to the CDC National Prevention Information Network (formerly the AIDS Information Clearinghouse) so that they can be incorporated into the current database for access by other organizations and agencies.

6. HIV Content Review Guidelines.

a. Submit completed Assurance of Compliance with the Requirements for Contents of AIDS-Related Written Materials Form (CDC form—0.1113). This form lists the members of your program review panel. The form is enclosed with your application kit. The current Guidelines and the form can also be downloaded from the CDC Web site: http://www.cdc.gov/od/pgo/forminfo.htm. Please include this completed form with your application. This form must be signed by the project director and authorized business official.

b. You must also include documentation of approval by the relevant review panel of any HIV educational materials used by your project. Use the enclosed form Report of Approval. If you have nothing to submit, you must complete the enclosed form No Report Necessary. Either the Report of Approval or No Report Necessary must be included with all progress reports and continuation requests.

7. Address your organization's adherence to CDC policies for securing approval for CDC sponsorship of conferences. If you plan to hold a conference, you must send a copy of the agenda to CDC's Grants Management Office.

8. If you plan to use materials using CDC's name, send a copy of the proposed material to CDC's Grants Management Office for approval.

Note: Send all reports to the Grants Management Specialist identified in the Section VII. Agency Contacts section of this announcement.

VII. Agency Contacts

For general questions about this announcement, contact: Centers for Disease Control and Prevention, Technical Information Management Section (TIMS), Procurement and Grants Office, 2920 Brandywine Road, Atlanta, GA 30341, Telephone: 770-488-2700.

For program technical assistance, contact: Samuel Taveras, Team Leader, Centers for Disease Control and Prevention, National Center for HIV, STD, and TB Prevention, Division of HIV/AIDS Prevention, 1600 Clifton Road, Mailstop E-40, Atlanta, GA 30333, Telephone: 404-639-5241, E-mail address: dhapcbapt@cdc.gov.

For budget assistance, contact: Carlos Smiley, Grants Officer, Centers for Disease Control and Prevention, Procurement and Grants Office, 2920 Brandywine Road, Room 3000, Atlanta, Georgia 30341-4146, Telephone: 770-488-2722, e-mail address: anx3@cdc.gov.

Dated: November 21, 2003.
Edward Schultz,
Acting Director, Procurement and Grants Office, Centers for Disease Control and Prevention.

[FR Doc. 03-29806 Filed 11-26-03; 11:20 am]

BILLING CODE 4163-18-P